DEPARTMENT OF LABOR

Employment and Training Administration

Senior Community Service Employment Program Grants for PY 2003

AGENCY: Employment and Training Administration, Labor.

ACTION: Notice of availability of funds and solicitation for grant applications (SGA) for the national grants portion of the Senior Community Service Employment Program.

SUMMARY: All applicants for grant funds should read this notice in its entirety. The U.S. Department of Labor (DOL or the Department), Division of Older Worker Programs (DOWP) of the Employment and Training Administration (ETA), announces a grant competition for the Senior Community Service Employment Program (SCSEP) authorized under title V of the Older Americans Act Amendments of 2000 (OAA Amendments), Pub. L. 106-501; 42 U.S.C. 3056 et seq. These projects will promote part-time employment opportunities in community service activities for unemployed, low-income individuals who are age 55 and over, and will foster increased prospects for their economic self-sufficiency. Under this solicitation, DOWP anticipates that approximately $342,000,000 will be available for grant awards in Program Year (PY) 2003 (July 1, 2003-June 30, 2004).

This notice describes the background, application process, program activities, and evaluation criteria for this SGA, and the current reporting requirements for SCSEP. The information and forms contained in the Supplementary Information Section constitute the official application package. All of the information needed to apply for grant funding is included. Additional information can be located on the SCSEP Web site at: http://wdsc.doleta.gov/seniors.

Notice: Federal regulations for the SCSEP are being developed. When final, they may change reporting and/or other requirements. Applicants must abide by the requirements that are in place at the time the grants are awarded. Note, however, that the requirements, including the regulations, may be revised during the grant period. Successful applicants will be responsible for adhering prospectively to any revised requirements that go into effect during the grant period, including, but not limited to, final regulations.

Closing Date: Applications, including those hand-delivered, must be received at the address below no later than 4:45 p.m., Eastern Time, February 6, 2003.

Notice: All applicants are advised that U.S. mail delivery in the Washington, DC area has been erratic due to the recent concerns involving anthrax contamination. All applicants must take this into consideration when preparing to meet the application deadline, as each applicant assumes the risk for ensuring a timely submission of its application. If, because of these mail problems, the Department does not receive an application or receives it too late to give it proper consideration, even if the application was timely mailed, the Department will not consider the application. Therefore, it is recommended that applicants confirm receipt of their applications by contacting Lorraine Saunders, U.S. Department of Labor, Employment and Training Administration, telephone (202) 693-3336 before the closing deadline. [This is not a toll-free number].

ADDRESSES: Applications must be directed to the U.S. Department of Labor, Employment and Training Administration, Division of Federal Assistance, Attention: Lorraine Saunders, Room S-4203, 200 Constitution Avenue, NW., Washington, DC 20210. Her e-mail address is lsaunders@doleta.gov.

FOR FURTHER INFORMATION: Questions should be faxed to Jacquelyn Carter, Grants Management Specialist, Division of Federal Assistance, Fax (202) 693-2879. [This is not a toll-free number]. All inquiries should include the SGA number (DFA-02-111) and a contact name, fax and phone numbers. This announcement will be published on the Internet on ETA's Division of Older Worker Programs' homepage at http://wdsc.doleta.gov/seniors. Award notifications will also be published on the ETA homepage.

SUPPLEMENTARY INFORMATION:

I. Purpose and Background

The U.S. Department of Labor, Division of Older Worker Programs of the Employment and Training Administration is requesting grant applications for the provision of community service employment and unsubsidized placement of eligible participants (sometimes also referred to as enrollees) in accordance with title V of the Older Americans Act Amendments of 2000, Pub. L. 106-501, 42 U.S.C. § 3056 et seq. SCSEP is the only nationwide Federal program that focuses on training and placing older individuals into community service positions and unsubsidized employment.

SCSEP is currently authorized through 2005 and provides for at least 60,000 positions in which approximately 100,000 participants are served each year through part-time employment opportunities in community service activities. The purpose of the program is to foster useful part-time opportunities in community service activities for unemployed low-income persons who are 55 years or older and who have poor employment prospects, and to foster individual economic self-sufficiency by increasing the number of participants who receive the benefits of unsubsidized employment in the public and private sectors. Program participants work at community service agencies usually for 20 hours a week and are paid the higher of the Federal or State minimum wage. (OAA Amendments § 502(b)(1)(J)).

The Department is holding a full and open competition for SCSEP national grant funds in order to provide better services to SCSEP participants, host agencies, employers, and the communities that the national grant program serves. Open competition is not only the preferred vehicle for obtaining new grantees, but in most cases, it is the required vehicle for obtaining new grantees. (Pub. L. 95-224; 43 FR 36860-65; DMLS-2 § 836 at 8-12; OAA Amendments). The Department favors full and open competition because it provides the Department with an opportunity to ensure that the best applicants are awarded grants and the program is administered to its full potential. It also allows new and different entities, including faith-based and community-based organizations, to become a part of the grantee community.

The Department is committed to minimizing disruptions to the extent possible and the requirements that applicants and grantees must meet reflect this commitment. A selected grantee may be required to negotiate with the Department on the geographic areas it will serve so that all positions are located in the same State and county in which positions are currently located, and to ensure that all geographic areas that are currently served continue to be served. Therefore, a winning grantee may not be awarded all areas that it proposes to serve and in some cases, a selected grantee may be required to serve one or more areas not included in its application. The Department will assure, through the selection and negotiation process, that all areas currently served continue to be served.

Currently, participants occupy nearly all SCSEP positions. If transitions are made from one grantee to another as a result of this competition, these participants must be given the opportunity to continue in the program. Therefore, selected grantees must agree to offer incumbent SCSEP participants in authorized positions the first opportunity to continue in an SCSEP position in the grantee's program (e.g., “right of first refusal”). As such, selected grantees must offer incumbent SCSEP participants the opportunity to continue in the SCSEP program in a position in the same geographic area, but not necessarily in the same host agency. Selected grantees may choose to move participants into new host agencies, or they may continue to utilize the current host agencies.

Further, the Department will work with the grantees to promote a seamless transition, if there is a new grantee in an area. Such transition assistance includes technical assistance, the approval to purchase equipment, obtaining office space, etc., prior to the start of the grant period. The Department intends to hold a conference after it makes awards, which will allow grantees to network with each other and learn how to establish the necessary partnerships to make the SCSEP a more successful program.

II. Application Process

A. Eligible Applicants

Applicants may apply to receive a grant under one or more of the following three (3) categories.

(1) General National Grant Funds. Applications for general SCSEP national grant funds will be accepted from public and private nonprofit agencies and organizations, including faith-based and community-based organizations, and tribal organizations in accordance with section 502(b)(1) of the OAA Amendments, which have familiarity with the areas and populations to be served and can administer an effective program. “Nonprofit” is defined as an agency, institution, or organization which is, or is owned and operated by, one or more corporations or associations no part of the net earnings of which inures, or may lawfully inure, to the benefit of any private shareholder or individual. (OAA Amendments § 101(4)). “Tribal organizations” means the recognized governing body of any Indian tribe, or any legally established organization of Indians which is controlled, sanctioned, or chartered by such governing body. (OAA Amendments § 101(7)). In any case in which a contract is let or grant made to an organization to perform services benefiting more than one Indian tribe, the approval of each such Indian tribe is a prerequisite to the letting or making of such contract or grant. Applicants must mark a “G” on the application and state specifically in the application that they are applying for general SCSEP national grant funds.

(2) Indian and Native American Grant Funds. Applications for Indian and Native American national grant funds will be accepted from public or nonprofit national Indian aging organizations with the ability to provide employment services to older Indians as required by section 506(a)(3) of the OAA Amendments. “Indian” means a person who is a member of an Indian tribe. (OAA Amendments § 101(5)). “Indian tribe” means any tribe, band, nation, or other organized group or community of Indians (including Alaska Native village or regional or village corporation as defined in or established pursuant to the Alaska Native Claims Settlement Act) which (A) is recognized as eligible for the special programs and services provided by the United States to Indians because of their status as Indians; or (B) is located on, or in proximity to, a Federal or State reservation or rancheria. (OAA Amendments § 101(6)).

Applicants must mark an “INA” on the application and state specifically in the application that they are applying for Indian national grant funds.

(3) Pacific Island and Asian American National Grant Funds. Applications for Pacific Island and Asian American national grant funds will be accepted from national public or nonprofit Pacific Island and Asian American aging organizations with the ability to provide employment to older Pacific Island and Asian Americans as required by section 506(a)(3) of the OAA Amendments. “Pacific Island and Asian American” means Americans having origins in any of the original peoples of the Far East, Southeast Asia, the Indian Subcontinent, or the Pacific Islands. (OAA Amendments § 516(3)). Applicants must mark an “AP” on the application and state specifically in the application that they are applying for Asian Pacific national grant funds.

Applicants applying for more than one category above must submit separate applications for each category for which they are applying.

Each applicant must submit a copy of its application to the Governor in each State that it proposes to serve before submitting an application to the Department as required by section 503(a)(5) of the OAA Amendments. Under this provision, the Governor of each State may submit a recommendation to the Secretary relating to the anticipated effect of an applicant's proposal on the overall distribution of positions within the State; recommendations for redistribution of positions to underserved areas; and recommendations for distribution of newly available positions.

Before receiving an award, applicants must meet the eligibility criteria and responsibility tests established in section 514 of the OAA Amendments and any applicable regulations.

Before receiving funding, all selected applicants must certify that they will comply with uniform cost principles and circulars issued by the Office of Management and Budget, keep records, and submit reports to the Department.

Before receiving funding, all selected applicants must agree to be evaluated on performance measures as a condition of the grant award. (OAA Amendments § 513(a)(5)).

Entities may apply as a consortium, but each member of the consortium must meet all eligibility and responsibility tests. Entities applying as a consortium are also jointly and severally liable for meeting all requirements for administering this Federally-funded program.

Section 18 of the Lobbying Disclosure Act of 1995, Pub. L. 104-65, prohibits the award of Federal funds to entities described in section 501(c)(4) of the Internal Revenue Code that engage in lobbying activities. Therefore, such entities are not eligible to receive funds under this announcement.

The Grant Officer's determination for award under this SGA constitutes a final agency action. The receipt of funding in any prior year does not guarantee an award under this SGA.

B. Jurisdictions To Be Served

The OAA Amendments provide that when funds are awarded competitively, it should be done in a manner that minimizes disruptions of services to participants to the extent possible. National SCSEP resources are distributed by a formula to each State. At the sub-State level SCSEP positions are distributed largely on a proportional basis depending on the eligible population living in each county. Consequently, SCSEP participants are located in nearly every county in the nation. The geographic areas an applicant proposes to serve and the number of positions it proposes to place in each area must be based on the present location of positions. In developing this application, applicants must identify the area(s) they would serve. See Appendix E on the ETA homepage at http://wdsc.doleta.gov/seniors for a listing of the locations of current positions and the number of authorized positions by State and county. If selected, negotiations may result in the selected applicant serving areas that it did not propose to serve and not serving areas it included in its application. To ensure the integrity of the program and to minimize disruptions to current participants and community services, the Department retains the authority to approve or disapprove the distribution of all positions.

Currently, SCSEP national grantees operate projects in all States (including Puerto Rico and the District of Columbia) except Alaska, Delaware, Hawaii, and the territories. Projects in these latter jurisdictions are not covered by this SGA. Alaska, Delaware, and Hawaii have not been served by national grantees in the past. As a result of the “hold harmless” provisions in the current legislation, there is currently no available funding to support projects in these areas by national grantees. To compensate for the lack of national grantees in these areas, the Department has sufficiently funded these States to provide equitable services to their SCSEP participants. The territories, which include Guam, American Samoa, the U.S. Virgin Islands, and the Commonwealth of the Northern Mariana Islands, receive funds directly through a specific reservation under the OAA Amendments.

C. Funding Levels

The total amount of funds available for this SGA is approximately $342,000,000. It is anticipated that from 10 to 20 awards may be made under this SGA, including at least one award to an Indian and Native American organization and at least one to an Asian Pacific Islander organization. The Department reserves the right to negotiate the amounts to be awarded under this competition.

No request for funds may be less than $6,000,000. In applying, applicants must list the location of positions by State(s) and counties where they plan to operate. The positions located in the combination of counties and State(s) where the applicant proposes to operate must not be less than 840. A grant request of $6,000,000 provides for approximately 840 positions. Please be advised that requests under $6,000,000 / 840 positions will not be considered and will be deemed non-responsive.

The Department has established this minimum level for grant requests based on the statutory 13.5 percent administrative cost limitation in the OAA Amendments at section 502(c)(3). Historically, the Department's smallest grant for this program has been $6,000,000. Based on experience, the Department believes that it becomes increasingly more difficult to provide administrative payroll systems, program oversight, and to maintain the fiduciary duties required of program oversight under the current statutory administrative cost limitations with a grant smaller than $6,000,000.

D. Administrative Requirements

Administrative Costs. The SCSEP has legislated limitations on the expenditure of Title V funds. The administrative cost limitation of an SCSEP project is 13.5 percent of the Federal share; however, the OAA Amendments allow the Secretary to increase this limit, but only up to 15 percent of the Federal share. (OAA Amendments § 502(c)(3)). Any applicant requesting an administrative cost higher than 13.5 percent must justify such a request as a part of its application. Note, however, that justification alone does not entitle the applicant to approval of a higher administrative cost limit. Any decision to approve a higher administrative limit will be made on a case-by-case basis.

Wages and Fringe Benefits. There is a minimum or “floor” on the amount that must be spent on participant wages and fringe benefits. That floor is 75 percent of the total Federal share, which reflects Congressional concern that low-income program participants be the primary beneficiaries of the funding. (OAA Amendments § 502(c)(6)(B)). The difference between (1) the total grant allotment and (2) the sum of the administrative costs and participant wages and fringe benefits is called “Other Participant Costs.” [total grant allotment—(administrative costs + wages and fringe benefits) = Other Participant Costs].

Other Participant Costs. Costs that are to be used for participant training, counseling, job development, and similar activities are called “Other Participant Costs” (OAA Amendments § 502(c)(6)(A)). The available Federal share for Other Participant Costs is that part of the Federal grant allocation that is not used for administrative costs or participant wages and fringe benefits.

Federal and non-Federal share. Applicants are reminded that not all project costs are Federal. The Federal share must not exceed 90 percent of the total project. (OAA Amendments § 502(c)(1)). The non-Federal share may be in cash or in-kind, but cannot be other Federal funds and must otherwise be an allowable charge used for SCSEP purposes.

Start-up costs. Specific start-up costs are not statutorily provided for SCSEP projects. However, according to section 502(c)(4) of the OAA Amendments, the cost of administration (limited to 13.5 percent or 15 percent with Department approval), includes the costs associated with goods and services, such as rental or purchase of equipment, utilities, office supplies, postage, and rental and maintenance of office space. Generally, these costs are incurred after the beginning of a grant period. However, the Department will allow new grantees to obtain such items up to one month before the beginning of the program year (July 1, 2003) to assist with the transition between incumbents and new grantees. This intent will be conveyed through the grant agreement with such grantees.

E. Period of Performance

Successful applicants under this SGA are expected to commence program operations on July 1, 2003. The period of performance will initially be for one (1) year, with an option to be funded for an additional two (2) years at the Department's discretion, if regulations are finalized and performance measures are established as required by section 514(a) of the OAA Amendments.

F. Submission of Proposals

A cover letter, an original plus two (2) copies of the proposal, and one (1) blue ink-signed original SF 424 must be timely submitted to the U.S. Department of Labor, Employment and Training Administration, Division of Financial Assistance, Room S-4203, 200 Constitution Avenue, NW., Washington, DC 20210. This proposal must have two parts: (1) A technical proposal; and (2) a cost proposal.

G. Acceptable Methods of Submission

Notice: All applicants are advised that U.S. mail delivery in the Washington, DC area has been erratic due to the recent concerns involving anthrax contamination. All applicants must take this into consideration when preparing to meet the application deadline, as each applicant assumes the risk for ensuring a timely submission of its application. If, because of these mail problems, the Department does not receive an application or receives it too late to give it proper consideration, even if the application was timely mailed, the Department will not consider the application. Therefore, it is recommended that applicants confirm receipt of their application by contacting Lorraine Saunders, U.S. Department of Labor, Employment and Training Administration, telephone (202) 693-3336 prior to the closing deadline. [This is not a toll-free number].

Hand-delivered applications. To be considered for funding, hand-delivered applications must be received not later than 4:45 p.m., Eastern Time, on the closing date, at the specified address.

Electronic applications. Due to the erratic mail delivery in the Washington, DC area, in addition to using the U.S. Postal Service or overnight delivery services, applicants have the option of submitting their applications via e-mail to Lorraine Saunders at lsaunders@doleta.gov. Should the applicant choose to use e-mail, the return receipt option must be utilized in order to verify receipt of the application (see instructions below), and an originally signed signature sheet of the SF 424, along with a copy of the grantee's e-mail/written verification of receipt, must follow via overnight mail. E-mailed applications will be accepted in Microsoft WORD only.

Before sending the e-mail, click on “file,” go to “properties, return notification,” and finally click on “mail receipt.” The sender will automatically receive an e-mail notification when the e-mail is opened.

Please note that faxed applications will not be accepted. Applications not received by the deadline will not be accepted.

Withdrawal of applications. Applications may be withdrawn by written notice or telegram (including mail gram) received at any time before an award is made. Applications may be withdrawn in person by the applicant or by an authorized representative, if the representative's identity is made known and the representative signs a receipt for the application.

Failure to adhere to the above instructions will be basis for a determination of non-responsiveness.

H. Required Content

An application must consist of two (2) separate and distinct parts: a technical proposal and a cost proposal.

The technical proposal must consist of a narrative not to exceed forty (40) double-spaced pages, including all attachments with the exception of required vitae and the list of prior government grants and contracts, with a font size of no less than 11 pt., and typewritten on one side of the paper only. The required vitae will not count against the page limitation and must be attached as a separate appendix to the SGA. Applicants must include as a separate appendix, a list of all government grants and contracts that it or any of its affiliates has had in the past three (3) years, including grant officer contact information. For purposes of this SGA, the term “affiliate” refers to the applicant's subsidiaries, divisions, predecessors, and successors. All other attachments count against the 40-page limitation and must be limited to meaningful information that contributes to, and/or verifies the proposed activities, such as letters of commitment. The content of the technical proposal is described in section III of this SGA.

The cost proposal must contain the required standard forms and budget information as described in section IV.

III. The Technical Proposal

A. Program Components

The purpose of this section is to give applicants a better sense of how the SCSEP operates and what functions and responsibilities are important to the program. It is not intended to be an all-inclusive description and does not reflect all the requirements of the program. Applicants that wish to learn more about the SCSEP are encouraged to review the legislation at Pub. L. 106-501 (42 U.S.C. § 3056). The legislation at section 502 contains a number of criteria that each grant must meet. An applicant's failure to demonstrate that its proposed program meets these criteria will make the application non-responsive. Applicants should also review the current regulations at 20 CFR Part 641 and the Older Worker (OW) Bulletins, which may be found on ETA's Division of Older Worker Program's homepage at http://wdsc.doleta.gov/seniors. Applicants may use this information when drafting their responses to the Rating Criteria in section III.C. of this SGA. The Department also intends to hold bidder's conferences for all interested applicants that want to learn more about the program and the competition process. The times and locations for these conferences will be posted on the Division of Older Worker Program's homepage at http://wdsc.doleta.gov/seniors. Applicants may review ETA's homepage at http://wdsc.doleta.gov/sga/pdf/ApplyingGrants.pdf for information on applying for ETA grants and http://wdsc.doleta.gov/sga/ for forms and information relating to competition for ETA grants. Further, regulations covering the OAA Amendments are being developed and updates will be posted on the Division of Older Worker Program's homepage throughout the regulatory process.

Individual Employment Plans (IEP). Each SCSEP participant must be assessed to determine the skills and employment-related needs of that individual, and a plan must be developed to improve the participant's employability. The IEP generally includes an employment goal and an appropriate sequence of services for that participant based on the assessment. (Some programs may call this type of plan an IDP, or Individual Development Plan.)

Community Service Employment. Providing subsidized community service employment is a significant part of the SCSEP's purpose. Community service may include, but is not limited to, such activities as social, health, welfare and educational services, counseling services, including tax counseling, environmental efforts, weatherization efforts and economic development. Community service assignments are usually made at host agencies. Participants receive wages paid for by the grant.

Training. Training is an important tool to make the most effective use of the skills and talents of participants, to help them succeed in their community service assignments and to facilitate placement of participants in unsubsidized employment. How much training, and what types of training are necessary are based on each individual participant's IEP.

Services for Individuals with Multiple Barriers to Employment. One emphasis of this program is addressing the needs of minority, limited English-speaking, and, where applicable, Indian eligible individuals as well as eligible individuals who have the greatest economic need to remove their barriers to obtaining employment. “Greatest economic need” is defined as need resulting from an income level at or below the poverty line and need caused by non-economic factors, which may include: physical and mental disabilities; language barriers; and cultural, social, or geographical isolation, including isolation caused by racial or ethnic status, that restricts the ability of an individual to perform normal daily tasks or threatens the capacity of the individual to live independently. (OAA Amendments § 101(27)).

Coordination with the Workforce Investment Act, One-Stop Career Centers and State and Area Agencies on Aging. All SCSEP activities are required to be coordinated with One-Stop centers operated under the Workforce Investment Act (WIA), Pub. L. 105-220 and the State aging network. With regard to One-Stops, the SCSEP is a required partner under WIA. As such, SCSEP activities must be coordinated with WIA. For instance, participant assessments of eligibility, needs, and competence under SCSEP will satisfy any condition for an assessment under WIA and vice-versa. Coordination with State and Area Agencies on Aging is required to ensure a “seamless program,” which ultimately benefits program participants. ETA also encourages grantees to coordinate efforts with other SCSEP grantees.

Host Agencies. Host agencies provide the worksites for program participants and may be public or private 501(c)(3) organizations, including community-based and faith-based organizations, authorized Federal agencies, State agencies, or local agencies. It is not uncommon for many of the SCSEP national grantees to function as host agencies by utilizing their organizations as the worksite for participants. Host agencies are an important component in that they serve the purposes of the program by supplying community service work assignments and by providing training and work experience for participants. The quality of the host agency directly affects the value of the work experience for the participants, and the participants' ability to obtain unsubsidized employment.

Geographic Areas. The Department allocates SCSEP positions or slots on an equitable basis, by State based on Census data of unemployed, low-income people who are 55 or older. (OAA Amendments § 503(a)(4)). ETA strives to ensure the equitable distribution of positions to cover both rural areas and urban areas adequately. Current positions are available at Appendix E, which is posted only on the ETA homepage at http://wdsc.doleta.gov/seniors. Currently, a State may have one or more grantees serving within its territory. Several grantees may operate in large population centers, focusing on the needs of specific population groups. To give applicants a better picture of how the positions and grantees work together currently within a State, applicants may review the ETA homepage at http://wdsc.doleta.gov/seniors/html_docs/directory.html for more information.

Placement into Unsubsidized Employment. One of the SCSEP objectives is to foster economic self-sufficiency through unsubsidized employment. The SCSEP program has a legislatively mandated, minimum placement goal of 20 percent of the number of authorized positions for each program grantee, and an overall Government Performance and Results Act of 1993 (GPRA) placement goal of 37 percent. The ability of a grantee to meet the unsubsidized placement goal depends largely on how successful the grantee is at targeting occupations, identifying job openings, training its participants, and successfully matching participants and jobs.

B. Rating Criteria for Award

A DOL panel will use the point scoring system and the Rating Criteria format specified below to review applications. Applications will be ranked based on the score assigned by the panel after careful evaluation by each panel member. It is required that all applicants use the Rating Criteria format when developing their SGAs.

The ranking will be the primary basis used to identify applicants as potential grantees. The Department may establish a competitive range, based upon the application evaluation, for the purpose of selecting qualified applicants. The panel's conclusions are advisory in nature and not binding on the Grant Officer. In deciding whether to award a grant to an applicant the Grant Officer may, when appropriate, also take into account the applicant's past performance in its prior Federal grants or contracts for the past three (3) years as it relates to the applicant's or its affiliate's demonstration of financial and administrative responsibility and program performance. The information the Grant Officer considers may include: (1) The applicant's level of cooperation with grant officer(s), the applicant's Federal technical representatives, and Federal auditors and investigators; and (2) the sufficiency of the administrative costs to subgrantees, subcontractors, or other affiliates. (A list of the applicant's prior grants and contracts must be attached to the proposal as described in section II. H. of this Solicitation). The Department reserves the right to ask for clarification or hold discussions, but is not obligated to do so. The Department further reserves the right to select applicants out of rank order if such a selection would, in its opinion, result in the most effective and appropriate combination of funding, administrative costs (e.g., cost per enrollment and placement), program goals (e.g., serving the needs of minorities, limited English speakers, Indian eligible individuals, and those of greatest economic need), and geographical service areas. Such items will be negotiated before we award a grant. If the negotiations do not result in an acceptable submission, the Department has the right to decline to fund an applicant's proposal.

Before receiving an award, applicants must meet the eligibility criteria and responsibility tests established in section 514 of the OAA Amendments and any applicable regulations, regardless of the applicant's rating score.

Scoring: The following full review criteria totaling a maximum score of 100 points apply to all applicants.

(1) Program Design—Approach, Population(s) and Area(s) Served (20 Points)

The applicant must describe the overall plan for how it will realize the purposes of the program, which are to promote useful part-time employment opportunities in community service activities for unemployed, low-income persons, and to foster individual economic self-sufficiency, and to increase the number of persons who may enjoy the benefits of unsubsidized employment.

Although selected grantees must provide “the right of first refusal” to current participants, vacancies may occur for a number of reasons. Therefore, the applicant must describe the expected characteristics of the specific population(s) it will serve, including: those with greatest economic need (as defined by OAA Amendments § 101(27)), greatest social need (as defined by OAA Amendments § 101(28)), poor employment history or prospects, and those individuals who are over age 60, the range of services it will offer to meet the needs of the population(s), and the geographic area(s) that will be served by the proposed program.

The applicant must describe the methodology it will use to identify the population(s) it will serve. Applicants must include the number and percentage of those individuals who are expected to have multiple barriers to employment, including minorities, limited English-speaking, Indian eligible individuals, and eligible individuals who have the greatest economic needs, and address how the services it will provide will overcome the barriers faced by individuals in the population(s) proposed to be served.

The applicant must describe its plan to recruit and select participants and must:

—Explain how eligibility will be determined and documented; and

—Describe efforts to assure participation of minority groups, those with greatest economic need and those with poor employment prospects.

The applicant must describe how it will certify the income of each participant upon entry into the program and re-certify the income of each participant at least once each program year. The applicant must indicate the schedule for certifying income eligibility of participants, and indicate what actions the applicant will take for those found to be no longer eligible. Applicants must also indicate where eligibility records will be maintained. (Information related to these requirements may be found in Older Worker Bulletins Nos. 96-5, 95-5, and 98-31. These and other bulletins and information may be found at http://wdsc.doleta.gov/seniors).

The applicant must include a detailed list of the States, counties, and in a few instances, cities where the project and its subprojects will be conducted, including the number of authorized positions to be established in each jurisdiction. The distribution of authorized positions by county and the estimated allocation of funds for each State should be listed. As discussed earlier, the Department and selected grantees may negotiate final State dollar amounts and number of positions that will be awarded to each grantee. For those applicants with a proposed project located in a city but also serving surrounding counties, the county where the city is located (unless the city is not in a county as listed in Appendix E) and the surrounding counties must be listed with the number of authorized positions. See Appendix E for a listing of the location of current projects and the number of authorized positions under each of these projects. Applicants will find Appendix E posted only on the ETA homepage at http://wdsc.doleta.gov/seniors.

The applicant must provide an outline of the procedures it will use to ensure that program participants will not displace other employees, (including partial displacement such as in the reduction of hours worked or benefits), workers on layoff or contract employees, as required by section 502(b)(1)(F) of the OAA Amendments.

The applicant must briefly discuss the complaint resolution system that it will use in cases where a participant wishes to dispute an adverse action or in cases where an applicant for enrollment wishes to dispute an unfavorable determination of eligibility. If available, provide as an attachment an example of the written explanation of the complaint resolution system that is to be given to each participant.

(2) Program Services—Community Services and Participant Services (20 Points)

Although a selected grantee may choose to use existing SCSEP positions or to create new ones and must offer incumbent participants the right of first refusal for continued participation, it must nonetheless discuss its preferred approach to selecting and providing community services. The applicant must describe the types of community services that will be provided by participants employed under its SCSEP projects. An applicant that chooses to take over existing positions must discuss its vision of how community services are to be provided. The applicant must list the types of services and agencies that will host participants to perform them. (A matrix format is suggested for ease of display within a limited page allocation). The applicant must also describe the method it will use to select and/or develop the host agencies and their community services, and how it proposes to maintain relationships with them. The applicant must outline how it will review these agencies to ensure on-the-job training, participant satisfaction, satisfactory health and safety conditions, adequate supervision, and fiscal integrity. The applicant must explain how it will ensure that these employment opportunities will be made available to participants in their immediate communities or nearby, and how the community services offered will benefit the community.

Host agencies providing the worksites for program participants must be publicly owned and operated facilities, or projects sponsored by 501(c)(3) organizations, including community-based and faith-based organizations. (OAA Amendments § 502(b)(1)(C)).

The applicant must describe the services that will be provided to the participants, either directly, through the One-Stop Center System, or through other service providers.

Physical Examinations. Applicants must describe the arrangements that will be made to offer physical examinations to participants.

Orientation. Applicants must describe participant and host agency orientation procedures. The description must include discussion of participant and agency responsibilities, permissible political activities, grievance procedures, etc.

Assessment. Applicants must describe the procedures to be followed in assessing the job aptitudes, job readiness, and job preferences of participants, as well as their potential for transition into unsubsidized employment. Applicants must address the types of training and supportive service that it will provide as part of a participant's assessment.

Individual Employment Plan (IEP). Applicants must describe how the assessment will be used to develop the IEP for each participant. The IEP includes the participant's goal and the steps to achieve that goal.

Training. Applicants must describe the training that will be provided to participants. Training should be related to the participant's assessment and IEP. Training may be related to the participant's community service job duties, unsubsidized employment goal, or it may be developmental, (i.e., the skills developed will enhance the participant's unsubsidized employment opportunities).

Placement into Community Service Employment. Applicants must describe the methods to be used to place participants into community service employment. Include such factors as:

—The types of community service activities that will be emphasized in assigning participants to community service jobs;

—The extent to which participants will be placed in work assignments involving the administration of the project itself;

—The criteria for selecting work assignments;

—The average number of hours in participant work weeks;

—The average participant wage rate;

—Participant fringe benefits; and

—The procedures for assuring participants are given adequate work site supervision.

Supportive services. Applicants must describe the supportive services to be provided to participants and the source(s) of these services.

Participant transportation. Where applicable, applicants must describe the arrangements that will be made to provide transportation assistance to participants and/or the reimbursement rate for transportation.

(3) Program Services—Unsubsidized Placements (20 Points)

Placement into unsubsidized employment. Each year the grantee must place a minimum of 20 percent of the number of authorized positions (with a goal of 37%) into unsubsidized employment. Therefore, applicants must:

—Describe the steps that will be taken to transition participants into unsubsidized employment.

—Include examples or anticipated content of the cooperative arrangements that will be made with the Workforce Investment Board and One-Stop centers. (OAA Amendments Section 502(b)(1)(O)).

—Describe placement follow-up efforts that will be utilized.

Work with area employers. The applicant must describe how it plans to identify what the needs of area employers are, the skills in demand, how any skills gaps might be filled, the jobs expected to be available in the area, the strategies that it will use to provide participants with the skills needed by employers, and strategies it will use to match participants with employers.

(4) Program Coordination and Oversight (20 Points)

Coordination. The applicant must describe its plans for coordinating with One-Stop centers and State aging networks, and for recruiting host agencies, including community-based and faith-based organizations, in the communities it proposes to serve. The applicant must indicate any other cooperative relationships, or information-sharing arrangements that will assist program performance and assure equitable access to the program.

Program Oversight. The applicant must describe its procedures for managing any proposed subgrantees to ensure effective program operations. The applicant must provide, for example, an explanation of how it will ensure that adequate resources are made available for local level operations, and how it will establish a mechanism for the tracing of funds to a level of expenditure adequate to ensure that funds have been spent lawfully.

The applicant must describe the methods and procedures to be used to monitor and evaluate project activities, subgrantees, host agencies and contractors to determine if the project is being administered in accordance with Federal guidelines and regulations and if project goals and timetables are being met. Include in this explanation:

—How frequently monitoring/evaluation visits will be made to projects (generally local projects should be monitored no less than annually);

—Who will be responsible for monitoring/evaluation;

—What criteria will be used to monitor and evaluate project activities;

—What methods will be used for prescribing remedial action when necessary;

—What follow-up procedures will be used to ensure that any identified problem has been remedied; and

—How subgrantee or project reports will be validated and made part of permanent files.

Minimizing Disruptions. The applicant must describe its plan for carrying out activities designed to ensure minimal disruptions to existing participants in the event that the applicant replaces an incumbent grantee. The applicant must describe how on-board participants of the former grantee(s) (if applicable) will be transferred to its program with a minimum of disruption. It must describe how it will administer the participants' “right of first refusal.” The description must include an explanation of how and when the participants will be notified, what records will be turned over (if applicable), what efforts will be made to maintain the privacy of individual records, what efforts will be made to place program participants into other employment and training opportunities, if needed, and what other services might be provided to ease the transition. The applicant must describe its timeline for developing and initiating program operations and this transition process following notification of award.

Applicants must describe a plan for reassuring participants that efforts will be made to minimize disruptions to them in the program.

(5) Management Structure and Fiscal Integrity (20 Points)

Management Structure. The applicant must describe the management structure for the proposed project. The applicant must include a staffing plan or project organizational chart describing the relationship between it and planned subgrantees and/or key host agencies. The chart must identify staff with key management responsibilities and show their expected portion of time dedicated to the project (if less than 100 percent). The applicant must include a brief description of its specific, relevant experience (and, as appropriate, the experience of significant subgrantees) in serving senior populations, serving people with barriers to employment, and/or in administering other employment related or other Federal programs. The applicant must also include position descriptions and, if available, vitae for key staff in management and participant services.

Subgrants. Applicants that are considering utilizing subgrantees are also required to submit the criteria they plan to use in selecting subgrantees. Applicants must also demonstrate the sufficiency of the proposed level of administrative funding for such subgrantees. Applicants that intend to hold a competition for subgrantees are required to submit their criteria for that competition. Such applicants must provide a timeframe for competing and/or awarding subgrants, whether awarded competitively or non-competitively, including the planned dates of the awards and performance.

Program and Fiscal Integrity. The applicant must describe the mechanisms it plans to use to establish and maintain program and fiscal oversight and maintain appropriate program and fiscal management information/records, including a brief description of computer hardware and software support. The applicant must describe a record keeping system that is sufficient to prepare required reports, and to trace funds to adequate levels of expenditures to ensure lawful spending.

Financial Monitoring. Applicants must describe how the financial management system of subgrantees and projects will be monitored, including:

—who will be responsible for monitoring subgrantee and affiliate expenditures;

—how frequently monitoring of expenditures will be done;

—how financial reports will be validated; and

—what follow-up procedures will be used.

Audits. Applicants must describe coverage plans to audit projects as well as plans to audit the headquarters activities. If a current grantee, the applicant must provide specific references to the most recent audit and include the name of the audit firm and the date of that audit.

Points Summary

(1) Program Design—Approach, Population(s) and Area(s) Served (20 points)

(2) Program Services—Community Services and Participant Services (20 points)

(3) Program Services—Unsubsidized Placements (20 points)

(4) Program Coordination and Oversight (20 points)

(5) Management Structure and Fiscal Integrity (20 points)

Total=100 points.

IV. The Cost Proposal Requirements

A. Budget Forms and Narrative Information

Each applicant must submit a cost proposal containing a completed Standard Form 424, “Application for Federal Assistance;” a Standard Form 424A (Budget Information Form); and a detailed cost breakout for each column and line item from Section B of the Standard Form 424A. Copies of all required forms along with the instructions for completing the forms are provided in the appendices to this SGA and can be found on the ETA homepage at http://wdsc.doleta.gov/seniors.

In addition to these forms, the applicant must submit a “detailed cost break out” that provides specific information on each of the expenditures listed under Section B of the Standard Form 424A, including both Federal and non-Federal funds. Each expenditure will fall under one of the three major cost categories: Administrative; Enrollee Wages and Fringe Benefits; or Other Participant Costs. Explanations of these categories can be found earlier in these documents and in the SCSEP regulations at 20 CFR 641.404.

In addition to the cost proposal, applicants must include the Assurance and Certification signature page, provided in Appendix D.

B. Fiscal and Performance Reporting Requirments

Applicants must have current computer technology and ensure that their organizations have the capability to link to the Internet. Reporting must be done through the Internet.

In accordance with 29 CFR 97.40 or 29 CFR 95.51, each grantee must submit a Senior Community Service Employment Program Quarterly Progress Report (QPR). This report must be prepared to coincide with the ending dates for Federal fiscal year quarters and must be submitted to the Department no later than 30 days after the end of the quarterly reporting period. If the grant period ends on a date other than the last day of a federal fiscal year quarter, the last quarterly report covering the entire grant period must be submitted no later than 30 days after the ending date. The Department will provide instructions for the preparation of this report.

In accordance with 29 CFR 97.41 or 29 CFR 95.52, the following financial reporting requirements apply to title V grants:

—An SF-269, Financial Status Report (FSR), must be submitted to the Department within 30 days after the ending of each quarter of the program year.

— A final FSR must be submitted within 45 days after the end of the grant.

— All FSRs must be prepared on an accrual basis.

Signed at Washington, DC, this 5th day of November, 2002.
Emily Stover DeRocco,
Assistant Secretary, Employment and Training Administration.

Appendices

Appendix A: Application for Federal Assistance, Standard Form 424

Appendix B: Budget Information Sheet, Standard Form 424-A

Appendix C: Standard Form 424-A Clarifying Instructions

Appendix D: Assurances and Certifications Signature Page

Appendix E: Listing of Current Locations and Potential Areas to be Served— posted at http://wdsc.doleta.gov/seniors

BILLING CODE 4510-30-P

[FR Doc. 02-28489 Filed 11-7-02; 8:45 am]

BILLING CODE 4510-30-C